DEPARTMENT OF TRANSPORTATION

Federal Aviation Administration

14 CFR Part 39

[Docket No. FAA-2006-25581 Directorate Identifier 2006-CE-041-AD; Amendment 39-15039; AD 2007-09-07]

RIN 2120-AA64

Airworthiness Directives; EADS SOCATA Model TBM 700 Airplanes

AGENCY: Federal Aviation Administration (FAA), Department of Transportation (DOT).

ACTION: Final rule.

SUMMARY: We are adopting a new airworthiness directive (AD) for the products listed above. This AD results from mandatory continuing airworthiness information (MCAI) issued by an aviation authority of another country to identify and correct an unsafe condition on an aviation product. The MCAI describes the unsafe condition as:

* * * a Nose Landing Gear (NLG) hinge pin rupture that causes an uncommanded NLG retraction.

Investigations identified the unsafe condition resulting from an incomplete thermal treatment done on three hinge pin batches lowering their mechanical properties with a high risk of deformation under service loads.

EADS SOCATA notes that an NLG hinge pin rupture could cause an uncommanded NLG retraction during landing. We are issuing this AD to require actions to correct the unsafe condition on these products.

DATES: This AD becomes effective June 4, 2007.

On June 4, 2007 the Director of the Federal Register approved the incorporation by reference of certain publications listed in this AD.

ADDRESSES: You may examine the AD docket on the Internet at http://dms.dot.gov or in person at the Docket Management Facility, U.S. Department of Transportation, 400 Seventh Street, SW., Nassif Building, Room PL-401, Washington, DC.

FOR FURTHER INFORMATION CONTACT: Albert Mercado, Aerospace Engineer, FAA, Small Airplane Directorate, 901 Locust, Room 301, Kansas City, Missouri 64106; telephone: (816) 329-4119; fax: (816) 329-4090.

SUPPLEMENTARY INFORMATION:

Streamlined Issuance of AD

The FAA is implementing a new process for streamlining the issuance of ADs related to MCAI. The streamlined process will allow us to adopt MCAI safety requirements in a more efficient manner and will reduce safety risks to the public. This process continues to follow all FAA AD issuance processes to meet legal, economic, Administrative Procedure Act, and Federal Register requirements. We also continue to meet our technical decision-making responsibilities to identify and correct unsafe conditions on U.S.-certificated products.

This AD references the MCAI and related service information that we considered in forming the engineering basis to correct the unsafe condition. The AD contains text copied from the MCAI and for this reason might not follow our plain language principles.

Discussion

We issued a supplemental notice of proposed rulemaking (NPRM) to amend 14 CFR part 39 to include an AD that would apply to the specified products. That NPRM was published in the Federal Register on February 21, 2007 (72 FR 7838). That NPRM proposed to correct an unsafe condition for the specified products. The MCAI advises of

* * * a Nose Landing Gear (NLG) hinge pin rupture that causes an uncommanded NLG retraction.

Investigations identified the unsafe condition resulting from an incomplete thermal treatment done on three hinge pin batches lowering their mechanical properties with a high risk of deformation under service loads.

EADS SOCATA notes that an NLG hinge pin rupture could cause an uncommanded NLG retraction during landing.

Comments

We gave the public the opportunity to participate in developing this AD. We considered the comments received.

Comment Issue No. 1: Number of Affected Products

EADS SOCATA writes that TBM Aircraft Mandatory Alert Service Bulletin SB 70-147, Amendment 1, dated September 2006, affects 86 nose landing gear (NLG) (in the worst case 86 products). Further, that among these 86 NLG, only 47 NLG are equipped with defective pins.

The FAA agrees that not all aircraft contain the affected NLG part. However, to appropriately identify the product with the affected nose landing gear part serial number, the AD requires to first identify the concerned NLG, then to detect the defective hinge pins installed on the product, and then replace the affected parts. The check of the NLG part serial number for applicability is necessary on all products. Therefore, we are not changing the AD based on this comment.

Comment Issue No. 2: Cost of Compliance

EADS SOCATA notes that the proposed AD specifies that any required parts would cost about $1,025 for each product and that it would take about 2 work-hours per product to comply with basic requirements of this proposed AD. EADS SOCATA specifies that the identification of the batch number is immediate for products with correct pins. For any product with defective pins, all the costs, work-hours and required parts, associated with TBM Aircraft Mandatory Alert Service Bulletin SB 70-147, Amendment 1, dated September 2006, will be covered under warranty if the defective pins are returned to EADS SOCATA.

We have noted EADS SOCATA comments and have revised the costs of compliance to reflect only the labor to identify the NLG part serial number. Our standard warranty language will reflect EADS SOCATA's warranty program.

Comment Issue No. 3: Unsafe Condition Description

EADS SOCATA comments that the proposed AD describes the unsafe condition associated with TBM Aircraft Mandatory Alert Service Bulletin SB 70-147, Amendment 1, dated September 2006, as an NLG hinge pin rupture that causes an uncommanded NLG retraction. Further, EADS SOCATA estimates that a NLG hinge pin rupture could lead to a nose landing gear collapse in the case of a three-point landing.

The FAA notes that the unsafe condition language was copied directly from the Reason section of the associated MCAI. However, to clarify the unsafe condition we will change the AD to add that a NLG hinge pin rupture could cause an uncommanded NLG retraction during landing.

Conclusion

We reviewed the available data, including the comments received, and determined that air safety and the public interest require adopting the AD with the changes described previously. We determined that these changes will not increase the economic burden on any operator or increase the scope of the AD.

Differences Between This AD and the MCAI or Service Information

We have reviewed the MCAI and related service information and, in general, agree with their substance. But we might have found it necessary to use different words from those in the MCAI to ensure the AD is clear for U.S. operators and is enforceable. In making these changes, we do not intend to differ substantively from the information provided in the MCAI and related service information.

We might also have required different actions in this AD from those in the MCAI in order to follow FAA policies. Any such differences are highlighted in a Note within the AD.

Costs of Compliance

We estimate that this AD will affect 256 products of U.S. registry. We also estimate that it will take about 0.5 work-hours per product to comply with basic requirements of this AD. The average labor rate is $80 per work-hour.

Based on these figures, we estimate the cost of this AD to the U.S. operators to be $10,240 or $40 per product. Where the service information lists required parts costs that are covered under warranty, we have assumed that there will be no charge for these parts. As we do not control warranty coverage for affected parties, some parties may incur costs higher than estimated here.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this AD will not have federalism implications under Executive Order 13132. This AD will not have a substantial direct effect on the States, on the relationship between the national government and the States, or on the distribution of power and responsibilities among the various levels of government.

For the reasons discussed above, I certify this AD:

(1) Is not a “significant regulatory action” under Executive Order 12866;

(2) Is not a “significant rule” under DOT Regulatory Policies and Procedures (44 FR 11034, February 26, 1979); and

(3) Will not have a significant economic impact, positive or negative, on a substantial number of small entities under the criteria of the Regulatory Flexibility Act.

We prepared a regulatory evaluation of the estimated costs to comply with this AD and placed it in the AD Docket.

Examining the AD Docket

You may examine the AD docket on the Internet at http://dms.dot.gov; or in person at the Docket Management Facility between 9 a.m. and 5 p.m., Monday through Friday, except Federal holidays. The AD docket contains the NPRM, the regulatory evaluation, any comments received, and other information. The street address for the Docket Office (telephone (800) 647-5227) is in the ADDRESSES section. Comments will be available in the AD docket shortly after receipt.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new AD:

2007-09-07 EADS SOCATA: Amendment 39-15039; Docket No. FAA-2006-25581; Directorate Identifier 2006-CE-041-AD.

Effective Date

(a) This airworthiness directive (AD) becomes effective June 4, 2007.

Affected ADs

(b) None.

Applicability

(c) This AD applies to all Model TBM 700 airplanes fitted with nose landing gear (NLG) part number (P/N) 21130-001-02 with serial numbers (S/N) B155 through B173 and S/N EUR 174 through EUR 240, that are certificated in any U.S. category.

Subject

(d) Air Transport Association of America (ATA) Code 32: Landing Gear.

Reason

(e) The mandatory continuing airworthiness information (MCAI) describes the unsafe condition as follows:

* * * a Nose Landing Gear (NLG) hinge pin rupture that causes an uncommanded NLG retraction.

Investigations identified the unsafe condition resulting from an incomplete thermal treatment done on three hinge pin batches lowering their mechanical properties with a high risk of deformation under service loads.

EADS SOCATA notes that an NLG hinge pin rupture could cause an uncommanded NLG retraction during landing.

Actions and Compliance

(f) Within 30 days after June 4, 2007 (the effective date of this AD), unless already done, do the following:

(1) Identify the NLG hinge pin batch number as instructed in paragraph B of the accomplishment instructions of EADS SOCATA TBM Aircraft Mandatory Alert Service Bulletin SB 70-147, Amendment 1, dated September 2006.

(i) For airplanes with the correct pin batch numbers, no further action is required. Return the airplane to service as instructed in EADS SOCATA TBM Aircraft Mandatory Alert Service Bulletin SB 70-147, Amendment 1, dated September 2006.

(ii) For airplanes with pins from the defective pin batch numbers or for which the batch number cannot be read, do all the actions as instructed in paragraphs B 5), C, and D of the accomplishment instructions of EADS SOCATA TBM Aircraft Mandatory Alert Service Bulletin SB 70-147, Amendment 1, dated September 2006.

(2) As of 30 days after June 4, 2007 (the effective date of this AD), do not install on any EADS SOCATA Model TBM 700 airplane an NLG actuator hinge pin coming from the three defective batches identified as EUR BC 21344-000-01, EUR BD 21344-000-01, and EUR BF 21344-000-01 on NLG part number 21130-001-02.

FAA AD Differences

Note: This AD differs from the MCAI and/or service information as follows: The service bulletin and MCAI require interim operational instructions until the corrective actions are done. This AD requires the corrective action at the same time as the pin batch number check.

Other FAA AD Provisions

(g) The following provisions also apply to this AD:

(1) Alternative Methods of Compliance (AMOCs): The Manager, Standards Staff, FAA, ATTN: Albert J. Mercado, Aerospace Engineer, FAA, Small Airplane Directorate, 901 Locust, Room 301, Kansas City, Missouri, 64106; telephone: (816) 329-4119; fax: (816) 329-4090., has the authority to approve AMOCs for this AD, if requested using the procedures found in 14 CFR 39.19.

(2) Airworthy Product: For any requirement in this AD to obtain corrective actions from a manufacturer or other source, use these actions if they are FAA-approved. Corrective actions are considered FAA-approved if they are approved by the State of Design Authority (or their delegated agent). You are required to assure the product is airworthy before it is returned to service.

(3) Reporting Requirements: For any reporting requirement in this AD, under the provisions of the Paperwork Reduction Act (44 U.S.C. 3501 et. seq.), the Office of Management and Budget (OMB) has approved the information collection requirements and has assigned OMB Control Number 2120-0056.

Related Information

(h) This AD is related to European Aviation Safety Agency Emergency AD No. 2006-0271-E, Issue date: September 4, 2006, which references EADS SOCATA TBM Aircraft Mandatory Alert Service Bulletin SB 70-147, Amendment 1, dated September 2006.

Material Incorporated by Reference

(i) You must use EADS SOCATA TBM Aircraft Mandatory Alert Service Bulletin SB 70-147, Amendment 1, dated September 2006, to do the actions required by this AD, unless the AD specifies otherwise.

(1) The Director of the Federal Register approved the incorporation by reference of this service information under 5 U.S.C. 552(a) and 1 CFR part 51.

(2) For service information identified in this AD, contact EADS SOCATA, Direction des Services, 65921 Tarbes Cedex 9, France; telephone: 33 (0)5 62.41.73.00; fax: 33 (0)5 62.41.76.54; or SOCATA Aircraft, INC., North Perry Airport, 7501 Airport Road, Pembroke Pines, Florida 33023; telephone: (954) 893-1400; fax: (954) 964-4141.

(3) You may review copies at the FAA, Central Region, Office of the Regional Counsel, 901 Locust, Room 506, Kansas City, Missouri 64106; or at the National Archives and Records Administration (NARA). For information on the availability of this material at NARA, call 202-741-6030, or go to: http://www.archives.gov/federal-register/cfr/ibr-locations.html.

Issued in Kansas City, Missouri, on April 20, 2007.
Charles L. Smalley,
Acting Manager, Small Airplane Directorate, Aircraft Certification Service.

[FR Doc. E7-8003 Filed 4-27-07; 8:45 am]

BILLING CODE 4910-13-P